DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Aaron J. Morrow, B.S., Saint Louis University: Based on Mr. Morrow's admission, the report of an investigation conducted by Saint Louis University (SLU), and additional analysis conducted by ORI in its oversight review, the U.S. Public Health Service (PHS) found that Aaron J. Morrow, graduate student, SLU Graduate School, engaged in scientific misconduct by falsifying and fabricating data in research supported by National Institute of General Medical Sciences (NIGMS), National Institutes of Health (NIH), grant 5 R01 GM54428-04, “Elucidation of the mechanisms of in vitro Golgi transport.”

Specifically PHS found that Mr. Morrow falsified data relating to the study of the mechanisms of protein transport using in vitro preparations. From October 1999 through January 2001, he falsified and fabricated data in his research notebook and produced false films and graphs of purported experiments to produce data for his thesis and misrepresent his progress.

Mr. Morrow reported the falsified and fabricated data in: (1) Laboratory group meetings; (2) a poster presentation at the American Society for Cell Biology meeting held in December 2000, and (3) a draft manuscript that he was preparing. Mr. Morrow also provided falsified data to his mentor, who unknowingly included it in a draft of NIGMS, NIH, application 2 R01 GM54428-05A2, “Elucidation of the mechanisms of in vitro Golgi transport.” Given the extensive nature of Mr. Morrow's data falsification and fabrication, none of his research after July 2000 can be considered reliable. His actions adversely and materially affected the laboratory's ongoing research in protein transport mechanisms by creating uncertainty about all his experimental results, necessitating verification and repetition of experiments, preventing the reporting of results for publication, and preventing the principal investigator from submitting a competitive renewal application for a NIH grant.

Mr. Morrow has entered into a Voluntary Exclusion Agreement in which he has voluntarily agreed for a period of three (3) years:

(1) To exclude himself from any contracting or subcontracting with any agency of the United States Government and from eligibility for, or involvement in, nonprocurement transactions (e.g., grants and cooperative agreements) of the United States Government as defined in 45 CFR part 76 (Debarment Regulations); and

(2) To exclude himself from serving in any advisory capacity to PHS, including but not limited to service on any PHS advisory committee, board, and/or peer review committee, or as a consultant.

FOR FURTHER INFORMATION CONTACT: Director, Division of Investigative Oversight, Office of Research Integrity, 5515 Security Lane, Suite 700, Rockville, MD 20852. (301) 443-5330.

Chris B. Pascal,
Director, Office of Research Integrity.

[FR Doc. 02-12361 Filed 5-16-02; 8:45 am]

BILLING CODE 4150-31-P